DEPARTMENT OF ENERGY

Federal Energy Regulatory Commission

[Docket No. IC07-6Q-000; FERC Form 6Q]

Commission Information Collection Activities, Proposed Collection; Comment Request; Extension

December 8, 2006.

AGENCY: Federal Energy Regulatory Commission, DOE.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due February 16, 2007.

ADDRESSES: Copies of sample filings of the proposed collection of information can be obtained from the Commission's Web site (http://www.ferc.gov/docs-filings/elibrary.asp) or from the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC07-6Q-000.

Documents filed electronically via the Internet must be prepared in WordPerfect, MS Word, Portable Document Format, or ASCII format. To file the document, access the Commission's Web site at http://www.ferc.gov and click on “Make an E-filing”, and then follow the instructions for each screen. First time users will have to establish a user name and password. The Commission will send an automatic acknowledgement to the sender's e-mail address upon receipt of comments.

All comments may be viewed, printed or downloaded remotely via the Internet through FERC's homepage using the eLibrary link. For user assistance, contact FERCOlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC Form 6Q “Quarterly Financial Report of Oil Pipeline Companies” (OMB No. 1902-0206) is used by the Commission to carry out its responsibilities in implementing the statutory provisions of the Interstate Commerce Act (ICA), (49 U.S.C.).

Although the Commission requires jurisdictional entities to file financial information, a general weakness in this reporting program has been the frequency with which the financial reports are required. In a rapidly changing business environment, annual reporting is simply insufficient. Financial accounting and reporting provides needed information concerning a company's past performance and its future prospects. Without reliable financial statements prepared in accordance with the Commission's Uniform System of Accounts and related regulations, the Commission would be unable to accurately determine the costs that relate to a particular time period, service or line of business. Additionally, it would be difficult to determine whether a given entity has previously been given the opportunity to recover its cost through rates, or to compare how the financial performance and results of operations of one regulated entity relates to that of another.

The need for current and better disclosures in financial statements drives the increasing demand for timely, relevant and reliable financial information. As such, the FERC Form 6-Q Quarterly Report provides the Commission with a more timely and informative picture of the jurisdictional oil pipeline entities' financial and operational condition.

More specifically, the Commission's Office of Enforcement (OE) uses the FERC Form 6-Q data collected to assist in the implementation of its financial and operational audits and investigation programs, in the review of the financial condition of regulated companies, and in the assessment of energy markets. The Office of Energy Markets and Reliability (OEMR) uses the data collected for its various rate proceedings and economic analysis. The Office of Administrative Litigation (OAL) uses the data collected for background research for use in litigation. The Office of General Counsel (OGC) uses the data in its programs relating to the administration of the ICA.

Burden Statement: Public reporting burden for this collection is estimated as:

Number of respondents annually (1) | Number of responses per respondent (2) | Average burden hours per response (3) | Total annual burden hours (1) × (2) × (3)
138 | 3 | 150 | 62,100

Estimated cost burden to respondents is $3,646,494. (62,100 hours/2080 hours per year times $122,137 per year average per employee = $3,646,494). The cost per respondent is $26,424).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of other technological collection techniques or other forms of information technology.

Magalie R. Salas,
Secretary.

[FR Doc. E6-21385 Filed 12-14-06; 8:45 am]

BILLING CODE 6717-01-P